DEPARTMENT OF HEALTH AND HUMAN SERVICES

National Institutes of Health

National Institute of General Medical Sciences; Amended Notice of Meeting

Notice is hereby given of a change in the meeting of the National Institute of General Medical Sciences Special Emphasis Panel, March 23, 2021, 09:30 a.m. to March 23, 2021, 05:30 p.m., National Institutes of Health, Natcher Building, 45 Center Drive, Bethesda, MD, 20892 which was published in the Federal Register on February 04, 2021, 86 FR 8211.

The meeting notice is amended to change the date of the meeting from March 19, 2021 to March 23, 2021. The meeting is closed to the public.

Dated: February 11, 2021.
Miguelina Perez,
Program Analyst, Office of Federal Advisory Committee Policy.

[FR Doc. 2021-03188 Filed 2-17-21; 8:45 am]

BILLING CODE 4140-01-P